DEPARTMENT OF TRANSPORTATION

Federal Highway Administration

Environmental Impact Statement, Yuba and Sutter Counties, State of California

AGENCY: Federal Highway Administration (FHWA), DOT.

ACTION: Notice of intent.

SUMMARY: The FHWA is issuing this notice to advise the public that an environmental impact statement will be prepared for a proposed highway project in Yuba and Sutter Counties, State of California. The proposed project is called the Third Bridge Crossing of the Feather River.

FOR FURTHER INFORMATION CONTACT:

Mike Bartlett, Chief, Office of Environmental Management, 1303 O Street, 2nd Fl., Sacramento, CA 95814, (916) 324-5150.

Maiser Khaled, Chief, District Operations, Federal Highway Administration, 980 Ninth Street, Suite 400, Sacramento, CA 95814, (916) 498-5020.

SUPPLEMENTARY INFORMATION: The proposed project would construct a freeway system to link SR 65/70 with SR 99 and construct a bridge structure over the Feather River. The east-west freeway link would cross the Feather River south of Marysville (Yuba County) and Yuba City (Sutter County). Located near and within the project area are the communities of Olivehurst, Alicia, Linda, Yuba City and the City of Marysville.

Scoping Process

The project has been in the planning stages since the 1980's. A Notice of Intent was published in December 1989, however, the project was tabled due to lack of funding. In the interim, the California Department of Transportation (Caltrans) has conducted meetings with the public, with local governmental officials and with jurisdictional agencies. A preliminary environmental analysis was performed in June and July 2000. Caltrans with FHWA initiated the NEPA/404 Integration and the Purpose and Need for the project has been reviewed by agencies with jurisdiction. In addition, a series of four workshops was held in the twin-cities area of Yuba City/Marysville in the last three years. One workshop was specifically for the Hmong (Southeast Asian refugees) community of Yuba County, which is in close proximity to the eastern end of the project. Special outreach efforts were complemented with Hmong-English translators and community representatives.

Letters describing the proposed action and soliciting comments will be sent to appropriate Federal, State, and local agencies and to private organizations/citizens who have previously expressed or are known to have interest in this proposal. At the time the draft environmental impact statement is circulated for public comments, a public hearing will be held. Public notice will be given of the time and place of the hearing. The draft EIS will be available for public and agency review and comment prior to the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program)

Issued on: November 29, 2001.
Maiser Khaled,
Chief, District Operations, California Division.

[FR Doc. 01-32157 Filed 12-31-01; 8:45 am]

BILLING CODE 4910-22-M